DEPARTMENT OF ENERGY

Federal Energy Regulatory Commission

[Project No. 12652-001]

Gerald M. Lutticken; Notice of Surrender of Preliminary Permit

November 18, 2008.

Take notice that Gerald M. Lutticken, permittee for the proposed Helltown Ravine Hydroelectric Project, has requested that its preliminary permit be terminated. The permit was issued on November 3, 2006, and would have expired on October 31, 2009.¹ The project would have been located on Helltown Ravine, a tributary to Butte Creek, in Butte County, California.

¹ 117 FERC ¶ 62,123.

The permittee filed the request on November 7, 2008, and the preliminary permit for Project No. 12652 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Kimberly D. Bose,
Secretary.

[FR Doc. E8-27815 Filed 11-21-08; 8:45 am]

BILLING CODE 6717-01-P